DEPARTMENT OF ENERGY

Federal Energy Regulatory Commission

[Docket No. RP09-879-000]

SourceGas Distribution LLC and SourceGas Energy Services Company, Complainants, v. Kinder Morgan Interstate Gas Transmission LLC, Respondent; Notice of Complaint

August 18, 2009.

Take notice that on August 7, 2009, SourceGas Distribution LLC and SourceGas Energy Services Company (complainants) filed a formal complaint against Kinder Morgan Interstate Gas Transmission LLC (KMIGT), pursuant to sections 4 and 5 of the Natural Gas Act, 15 USC 717c(b) and 717d(a) (2000) and pursuant to 18 CFR 385.206 and 395.212 (2009). The complainants are alleging that KIMIGT's adjustment practices being applied in connection with resolving longstanding volumetric processing issues relating to complainants are unjust, unreasonable and/or unduly discriminatory, or otherwise inconsistent with the tariffs, regulations and statutes administered by the Commission.

The complainants state that copies of the complaint were served on the contact for KIMIGT as listed on the Commission's Corporate Officials List, affected regulatory agencies, and others whom the complainants determined reasonably may be expected to be affected by the complaint.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on August 27, 2009.

Kimberly D. Bose,
Secretary.

[FR Doc. E9-20365 Filed 8-24-09; 8:45 am]

BILLING CODE 6717-01-P